FEDERAL HOUSING FINANCE AGENCY

[No. 2014-N-05]

Federal Home Loan Bank Members Selected for Community Support Review 2014-2015 Review Cycle—2nd Round

AGENCY: Federal Housing Finance Agency.

ACTION: Notice.

SUMMARY: The Federal Housing Finance Agency (FHFA) is announcing the Federal Home Loan Bank (Bank) members it has selected for the 2014-2015 Review Cycle—2nd Round under the FHFA's community support requirements regulation. This notice also prescribes the deadline by which Bank members selected for review must submit Community Support Statements to FHFA.

DATES: Bank members selected for the review cycle under the FHFA's community support requirements regulation must submit completed Community Support Statements to FHFA on or before June 9, 2014.

ADDRESSES: Bank members selected for the 2014-2015 Review Cycle—2nd Round under the FHFA's community support requirements regulation must submit completed Community Support Statements to FHFA either by electronic mail at hmgcommunitysupportprogram@fhfa.gov or by hard-copy mail at the Federal Housing Finance Agency, Ninth Floor, Division of Housing Mission and Goals (DHMG), 400 Seventh Street SW., Washington, DC 20024.

FOR FURTHER INFORMATION CONTACT: Melissa Allen, Senior Program Analyst, (202) 658-9266 or Melissa.Allen@fhfa.gov, or Rona Richardson, Administrative Office Manager, 202-649-3224 or Rona.Richardson@fhfa.gov, Office of Housing and Regulatory Policy, Division of Housing Mission and Goals, Federal Housing Finance Agency, Ninth Floor, 400 Seventh Street SW., Washington, DC 20024.

SUPPLEMENTARY INFORMATION:

I. Selection for Community Support Review

Section 10(g)(1) of the Federal Home Loan Bank Act (Bank Act) requires FHFA to promulgate regulations establishing standards of community investment or service Bank members must meet in order to maintain access to long-term advances. See 12 U.S.C. 1430(g)(1). The regulations promulgated by FHFA must take into account factors such as the Bank member's performance under the Community Reinvestment Act of 1977 (CRA), 12 U.S.C. 2901 et seq., and record of lending to first-time homebuyers. See 12 U.S.C. 1430(g)(2). Pursuant to section 10(g) of the Bank Act, FHFA has promulgated a community support requirements regulation that establishes standards a Bank member must meet in order to maintain access to long-term advances, and review criteria FHFA must apply in evaluating a member's community support performance. See 12 CFR part 1290. The regulation includes standards and criteria for the two statutory factors—CRA performance and record of lending to first-time homebuyers. 12 CFR 1290.3. Only members subject to the CRA must meet the CRA standard. 12 CFR 1290.3(b). All members, including those not subject to CRA, must meet the first-time homebuyer standard. 12 CFR 1290.3(c).

Under the rule, FHFA selects approximately one-eighth of the members in each Bank district for community support review each calendar quarter. 12 CFR 1290.2(a). FHFA will not review an institution's community support performance until it has been a Bank member for at least one year. Selection for review is not, nor should it be construed as, any indication of either the financial condition or the community support performance of the member.

Each Bank member selected for review must complete a Community Support Statement and submit it to FHFA by the June 9, 2014 deadline prescribed in this notice. 12 CFR 1290.2(b)(1)(ii) and (c). On or before May 8, 2014, each Bank will notify the members in its district that have been selected for the 2014-2015 Review Cycle—2nd Round community support review that they must complete and submit to FHFA by the deadline a Community Support Statement. 12 CFR 1290.2(b)(2)(i). The member's Bank will provide a blank Community Support Statement Form (OMB No. 2590-0005), which also is available on the FHFA's Web site: http://www.fhfa.gov/webfiles/2924/FHFAForm060.pdf. Upon request, the member's Bank also will provide assistance in completing the Community Support Statement.

FHFA has selected the following members for the 2014-2015 Review Cycle—2nd Round community support review:

Federal Home Loan Bank of Boston—District 1
Collinsville Savings Society | Collinsville | Connecticut.
Essex Savings Bank | Essex | Connecticut.
Guilford Savings Bank | Guilford | Connecticut.
Damariscotta Bank and Trust Company | Damariscotta | Maine.
Franklin Savings Bank | Farmington | Maine.
Katahdin Trust Company | Patten | Maine.
Skowhegan Savings Bank | Skowhegan | Maine.
Athol Savings Bank | Athol | Massachusetts.
North Middlesex Savings Bank | Ayer | Massachusetts.
OneUnited Bank | Boston | Massachusetts.
First Federal Savings Bank of Boston | Boston | Massachusetts.
Peoples Federal Savings Bank | Brighton | Massachusetts.
East Cambridge Savings Bank | Cambridge | Massachusetts.
The Bank of Canton | Canton | Massachusetts.
Dedham Institution for Savings | Dedham | Massachusetts.
BayCoast Bank | Fall River | Massachusetts.
Family Federal Savings F.A. | Fitchburg | Massachusetts.
Florence Savings Bank | Florence | Massachusetts.
Blue Hills Bank | Hyde Park | Massachusetts.
Equitable Co-operative Bank | Lynn | Massachusetts.
Mansfield Co-operative Bank | Mansfield | Massachusetts.
Marblehead Bank | Marblehead | Massachusetts.
Milford National Bank and Trust Co. | Milford | Massachusetts.
Millbury Savings Bank | Millbury | Massachusetts.
Monson Savings Bank | Monson | Massachusetts.
Scituate Federal Savings Bank | Scituate | Massachusetts.
Southbridge Savings Bank | Southbridge | Massachusetts.
Hampden Bank | Springfield | Massachusetts.
Bristol County Savings Bank | Taunton | Massachusetts.
Hometown Bank, A Co-operative Bank | Webster | Massachusetts.
S-Bank | Weymouth | Massachusetts.
Union Bank | Morrisville | Vermont.
Federal Home Loan Bank of New York—District 2
Sturdy Savings Bank | Cape May Court House | New Jersey.
Spencer Savings Bank, SLA | Elmwood Park | New Jersey.
NVE Bank | Englewood | New Jersey.
Freehold Savings & Loan Association | Freehold | New Jersey.
Morgan Stanley Trust | Jersey City | New Jersey.
Schuyler Savings Bank | Kearny | New Jersey.
Lincoln Park Savings Bank | Lincoln Park | New Jersey.
Metuchen Savings Bank | Metuchen | New Jersey.
Millington Savings Bank | Millington | New Jersey.
Ocean City Home Bank | Ocean City | New Jersey.
Boiling Springs Savings Bank | Rutherford | New Jersey.
Investors Savings Bank | Short Hills | New Jersey.
Bogota Savings Bank | Teaneck | New Jersey.
Colonial Bank FSB | Vineland | New Jersey.
The Bank | Woodbury | New Jersey.
Brooklyn Federal Savings Bank | Brooklyn | New York.
Elmira Savings Bank, FSB | Elmira | New York.
Maspeth Federal Savings and Loan Association | Maspeth | New York.
Carver Federal Savings Bank | New York | New York.
Chinatown Federal Savings Bank | New York | New York.
Country Bank | New York | New York.
Abacus Federal Savings Bank | New York | New York.
PathFinder Bank | Oswego | New York.
The Upstate National Bank | Rochester | New York.
Doral Bank | San Juan | Puerto Rico.
Federal Home Loan Bank of Pittsburgh—District 3
Artisans' Bank | Wilmington | Delaware.
Altoona First Savings Bank | Altoona | Pennsylvania.
Investment Savings Bank | Altoona | Pennsylvania.
First Columbia Bank & Trust Company | Bloomsburg | Pennsylvania.
Community Bank, N.A. | Carmichaels | Pennsylvania.
Charleroi Federal Savings Bank | Charleroi | Pennsylvania.
Coatesville Savings Bank | Coatesville | Pennsylvania.
FirsTrust Bank | Conshohocken | Pennsylvania.
First National Community Bank | Dunmore | Pennsylvania.
Armstrong County Building & Loan Association | Ford City | Pennsylvania.
Greenville Savings Bank | Greenville | Pennsylvania.
Peoples Neighborhood Bank | Hallstead | Pennsylvania.
1st Summit Bank | Johnstown | Pennsylvania.
Westmoreland Federal Savings & Loan Association | Latrobe | Pennsylvania.
Mifflin County Savings Bank | Lewistown | Pennsylvania.
Mifflinburg Bank & Trust Company | Mifflinburg | Pennsylvania.
The Muncy Bank and Trust Company | Muncy | Pennsylvania.
Sewickley Savings Bank | Sewickley | Pennsylvania.
ESSA Bank & Trust | Stroudsburg | Pennsylvania.
Citizens & Northern Bank | Wellsboro | Pennsylvania.
The Honesdale National Bank | Wilkes-Barre | Pennsylvania.
Calhoun County Bank, Inc. | Grantsville | West Virginia.
Huntington Federal Savings Bank | Huntington | West Virginia.
Citizens Bank of Morgantown | Morgantown | West Virginia.
Doolin Security Savings Bank FSB | New Martinsville | West Virginia.
First Federal Savings & Loan Association of Ravenswood | Ravenswood | West Virginia.
First National Bank | Ronceverte | West Virginia.
Williamstown Bank, Inc. | Williamstown | West Virginia.
Federal Home Loan Bank of Atlanta—District 4
Robertson Banking Company | Demopolis | Alabama.
The Southern Bank Company | Gadsden | Alabama.
The Citizens Bank | Greensboro | Alabama.
The Headland National Bank | Headland | Alabama.
First Tuskegee Bank | Montgomery | Alabama.
Phenix-Girard Bank | Phenix City | Alabama.
Citizens Bank, Inc. | Robertsdale | Alabama.
The Bank of Vernon | Vernon | Alabama.
Bank of Belle Glade | Belle Glade | Florida.
Community Bank of Manatee | Bradenton | Florida.
BankAtlantic | Fort Lauderdale | Florida.
Eagle National Bank of Miami | Miami | Florida.
International Finance Bank | Miami | Florida.
BankUnited, FSB | Miami Lakes | Florida.
Charlotte State Bank | Port Charlotte | Florida.
Federal Trust Bank | Sanford | Florida.
Capital City Bank | Tallahassee | Florida.
Georgia Bank and Trust Company of Augusta | Augusta | Georgia.
First National Bank of Coffee County | Douglas | Georgia.
Elberton Federal Savings & Loan Association | Elberton | Georgia.
Pineland State Bank | Metter | Georgia.
Greater Rome Bank | Rome | Georgia.
The Coastal Bank | Savannah | Georgia.
First Federal Savings and Loan of Valdosta | Valdosta | Georgia.
Homewood Federal Savings Bank | Baltimore | Maryland.
Fraternity Federal S&L Association | Baltimore | Maryland.
Hamilton Federal Bank | Baltimore | Maryland.
Advance Bank | Baltimore | Maryland.
The Talbot Bank of Easton | Easton | Maryland.
Madison Bohemian Savings Bank | Forest Hills | Maryland.
Jarrettsville Federal S&L Association | Jarrettsville | Maryland.
Colombo Bank | Rockville | Maryland.
American Bank | Silver Spring | Maryland.
Sykesville Federal Savings Association | Sykesville | Maryland.
AmericasBank | Towson | Maryland.
Maryland Bank and Trust Company, N.A. | Waldorf | Maryland.
First Bank | Troy | North Carolina.
First Palmetto Savings Bank, FSB | Camden | South Carolina.
Spratt Savings and Loan Association | Chester | South Carolina.
The Peoples Bank | Iva | South Carolina.
The Palmetto Bank | Laurens | South Carolina.
The Citizens Bank | Olanta | South Carolina.
Woodruff Federal Savings & Loan Association | Woodruff | South Carolina.
Virginia Commerce Bank | Arlington | Virginia.
EVB | Glenns | Virginia.
Powell Valley National Bank | Jonesville | Virginia.
Shore Bank | Onley | Virginia.
Federal Home Loan Bank of Cincinnati—District 5
United Citizens Bank & Trust Company | Campbellsburg | Kentucky.
Farmers and Traders Bank of Campton | Campton | Kentucky.
First Community Bank of Western Kentucky, Inc | Clinton | Kentucky.
Clinton Bank | Clinton | Kentucky.
Citizens Federal Savings and Loan Association of Covington | Covington | Kentucky.
South Central Bank, FSB | Elizabethton | Kentucky.
United Kentucky Bank of Pendleton County, Inc | Falmouth | Kentucky.
Fredonia Valley Bank | Fredonia | Kentucky.
First Federal Savings & Loan Association | Hazard | Kentucky.
Bank of the Bluegrass & Trust Company | Lexington | Kentucky.
Peoples Security Bank | Louisa | Kentucky.
The First Capital Bank of Kentucky | Louisville | Kentucky.
Republic Bank | Louisville | Kentucky.
Peoples Bank of Mt. Washington | Mt. Washington | Kentucky.
Farmers Bank & Trust Company, Inc. | Princeton | Kentucky.
First Southern National Bank | Stanford | Kentucky.
Liberty National Bank | Ada | Ohio.
First Federal Community Bank of Bucyrus | Bucyrus | Ohio.
First Safety Bank | Cincinnati | Ohio.
The Savings Bank | Circleville | Ohio.
Third Federal Savings & Loan Association of Cleveland | Cleveland | Ohio.
The Peoples Bank Company | Coldwater | Ohio.
First City Bank | Columbus | Ohio.
The Cortland Savings and Banking Company | Cortland | Ohio.
United Midwest Savings Bank | DeGraff | Ohio.
Fidelity Federal Savings and Loan Association of Delaware | Delaware | Ohio.
First Federal Community Bank | Dover | Ohio.
Heartland Bank | Gahanna | Ohio.
Merchants National Bank | Hillsboro | Ohio.
Kingston National Bank | Kingston | Ohio.
First Federal Savings & Loan Association of Lakewood | Lakewood | Ohio.
The Mechanics Savings Bank | Mansfield | Ohio.
Peoples Bank, National Association | Marietta | Ohio.
The Middlefield Banking Company | Middlefield | Ohio.
The Nelsonville Home and Savings Association | Nelsonville | Ohio.
New Carlisle Federal Savings Bank | New Carlisle | Ohio.
First Federal Savings & Loan Association of Newark | Newark | Ohio.
The Valley Central Savings Bank | Reading | Ohio.
Peoples Federal Savings and Loan Association of Sidney | Sidney | Ohio.
Commodore Bank | Somerset | Ohio.
Somerville National Bank | Somerville | Ohio.
Perpetual Federal Savings Bank | Urbana | Ohio.
Van Wert Federal Savings Bank | Van Wert | Ohio.
The Waterford Commercial and Savings Bank | Waterford | Ohio.
Liberty Savings Bank, F.S.B. | Wilmington | Ohio.
Farmers & Merchants Bank | Adamsville | Tennessee.
Bank of Crockett | Bells | Tennessee.
Decatur County Bank | Decaturville | Tennessee.
Progressive Savings Bank, F.S.B. | Jamestown | Tennessee.
Wilson Bank and Trust | Lebanon | Tennessee.
First National Bank of Tennessee | Livingston | Tennessee.
Volunteer Federal Savings & Loan Association of Madisonville | Madisonville | Tennessee.
Trust One Bank | Memphis | Tennessee.
Jefferson Federal Bank | Morristown | Tennessee.
Newport Federal Bank | Newport | Tennessee.
Citizens Community Bank | Winchester | Tennessee.
Federal Home Loan Bank of Indianapolis—District 6
First Federal Savings Bank—Angola | Angola | Indiana.
Boonville Federal Savings Bank | Boonville | Indiana.
Riddell National Bank | Brazil | Indiana.
Union Savings & Loan Association | Connersville | Indiana.
Farmers Bank | Frankfort | Indiana.
First Federal Savings & Loan of Greensburg | Greensburg | Indiana.
Lake Federal Bank, FSB | Hammond | Indiana.
Kentland Federal Savings and Loan Association | Kentland | Indiana.
Logansport Savings Bank, FSB | Logansport | Indiana.
Community Bank | Noblesville | Indiana.
The First National Bank of Odon | Odon | Indiana.
First Bank Richmond, N.A. | Richmond | Indiana.
Scottsburg Building & Loan Association | Scottsburg | Indiana.
Grant County State Bank | Swayzee | Indiana.
Crossroads Bank | Wabash | Indiana.
First Federal Savings Bank | Washington | Indiana.
Liberty Savings Bank, FSB | Whiting | Indiana.
Bay Port State Bank | Bay Port | Michigan.
Monarch Community Bank | Coldwater | Michigan.
Huron Community Bank | East Tawas | Michigan.
Union Bank | Lake Odessa | Michigan.
Peoples State Bank of Munising | Munising | Michigan.
New Buffalo Savings Bank, FSB | New Buffalo | Michigan.
Central Savings Bank | Sault Ste. Marie | Michigan.
Edgewater Bank | St. Joseph | Michigan.
First National Bank of Wakefield | Wakefield | Michigan.
Federal Home Loan Bank of Chicago—District 7
First State Bank of Beecher City | Beecher City | Illinois.
American Enterprise Bank | Buffalo Grove | Illinois.
The First National Bank in Carlyle | Carlyle | Illinois.
CIBM | Champaign | Illinois.
Community Savings Bank | Chicago | Illinois.
Illinois Service Federal Savings and Loan Association | Chicago | Illinois.
Liberty Bank for Savings | Chicago | Illinois.
Pulaski Savings Bank | Chicago | Illinois.
GreenChoice Bank, fsb | Chicago | Illinois.
South Central Bank, National Association | Chicago | Illinois.
West Town Savings Bank | Cicero | Illinois.
Home Federal Savings and Loan Association of Collinsville | Collinsville | Illinois.
Collinsville Building and Loan Association | Collinsville | Illinois.
Flora Bank & Trust | Flora | Illinois.
Forreston State Bank | Forreston | Illinois.
Guardian Savings Bank | Granite City | Illinois.
Heritage State Bank | Lawrenceville | Illinois.
Lisle Savings Bank | Lisle | Illinois.
First Bank of Manhattan | Manhattan | Illinois.
McHenry Savings Bank | McHenry | Illinois.
The City National Bank of Metropolis | Metropolis | Illinois.
Milford Building & Loan Association, SB | Milford | Illinois.
Wabash Savings Bank | Mount Carmel | Illinois.
Brown County State Bank | Mount Sterling | Illinois.
The Farmers Bank of Mt. Pulaski | Mt. Pulaski | Illinois.
Nashville Savings Bank | Nashville | Illinois.
First Robinson Savings Bank, National Association | Robinson | Illinois.
First Federal Savings & Loan Association of Central Illinois | Shelbyville | Illinois.
Town and Country Bank | Springfield | Illinois.
The First National Bank | Vandalia | Illinois.
Banner Banks | Birnamwood | Wisconsin.
The Bank of Brodhead | Brodhead | Wisconsin.
North Shore Bank, FSB | Brookfield | Wisconsin.
National Exchange Bank & Trust | Fond du Lac | Wisconsin.
Greenleaf Wayside Bank | Greenleaf | Wisconsin.
Hustisford State Bank | Hustisford | Wisconsin.
Ixonia Bank | Ixonia | Wisconsin.
Mid America Bank | Janesville | Wisconsin.
Union State Bank | Kewaunee | Wisconsin.
Bank of Lake Mills | Lake Mills | Wisconsin.
BLC Community Bank | Little Chute | Wisconsin.
First Community Bank | Milton | Wisconsin.
West Pointe Bank | Oshkosh | Wisconsin.
Dairy State Bank | Rice Lake | Wisconsin.
Wisconsin River Bank | Sauk City | Wisconsin.
Heritage Bank | Spencer | Wisconsin.
Superior Savings Bank | Superior | Wisconsin.
Farmers & Merchants Bank | Tomah | Wisconsin.
First Bank | Tomah | Wisconsin.
Paper City Savings Association | Wisconsin Rapids | Wisconsin.
Federal Home Loan Bank of Des Moines—District 8
Peoples State Bank | Albia | Iowa.
Citizens Savings Bank | Anamosa | Iowa.
Boone Bank & Trust Company | Boone | Iowa.
Iowa Prairie Bank | Brunsville | Iowa.
Lincoln Savings Bank | Cedar Falls | Iowa.
Iowa Trust and Savings Bank | Centerville | Iowa.
Principal Bank | Des Moines | Iowa.
Dubuque Bank & Trust Company | Dubuque | Iowa.
Citizens State Bank | Fort Dodge | Iowa.
Keokuk Savings Bank & Trust Company | Keokuk | Iowa.
Iowa State Savings Bank | Knoxville | Iowa.
Cedar Valley Bank & Trust | La Porte City | Iowa.
Heritage Bank | Marion | Iowa.
United Community Bank | Milford | Iowa.
New Albin Savings Bank | New Albin | Iowa.
City State Bank | Norwalk | Iowa.
Clarke County State Bank | Osceola | Iowa.
Sibley State Bank | Sibley | Iowa.
American State Bank | Sioux Center | Iowa.
West Liberty State Bank | West Liberty | Iowa.
Bremer Bank, NA | Alexandria | Minnesota.
Farmers and Merchants State Bank of Blooming Prairie | Blooming Prairie | Minnesota.
First Bank Blue Earth | Blue Earth | Minnesota.
State Bank in Eden Valley | Eden Valley | Minnesota.
Bank Midwest | Fairmont | Minnesota.
Harvest Bank | Kimball | Minnesota.
The First National Bank of Le Center | Le Center | Minnesota.
First State Bank Minnesota | Le Roy | Minnesota.
Star Bank | Maple Lake | Minnesota.
First National Bank of Menahga and Sebeka | Menahga | Minnesota.
First Minnesota Bank | Minnetonka | Minnesota.
The First National Bank of Osakis | Osakis | Minnesota.
Prior Lake State Bank | Prior Lake | Minnesota.
Citizens Independent Bank | St. Louis Park | Minnesota.
Minnwest Bank South | Tracy | Minnesota.
Belgrade State Bank | Belgrade | Missouri.
O'Bannon Banking Company | Buffalo | Missouri.
First National Bank | Camdenton | Missouri.
1st Cameron State Bank | Cameron | Missouri.
Bank 21 | Carrollton | Missouri.
Southwest Missouri Bank | Carthage | Missouri.
First Bank | Creve Coeur | Missouri.
Security Bank of the Ozarks | Eminence | Missouri.
Rockwood Bank | Eureka | Missouri.
Missouri Bank & Trust Company | Kansas City | Missouri.
KCB Bank | Kearney | Missouri.
Clay County Savings Bank | Liberty | Missouri.
BankLiberty | Liberty | Missouri.
First Home Savings Bank | Mountain Grove | Missouri.
Boulevard Bank | Neosho | Missouri.
Progressive Ozark Bank, FSB | Salem | Missouri.
Community State Bank | Shelbina | Missouri.
Bremen Bank and Trust Company | St. Louis | Missouri.
Southern Commercial Bank | St. Louis | Missouri.
Community Bank, NA | Summersville | Missouri.
Peoples Bank & Trust Company | Troy | Missouri.
Bank of Urbana | Urbana | Missouri.
The Missouri Bank | Warrenton | Missouri.
First State Bank of North Dakota | Arthur | North Dakota.
Liberty State Bank | Powers Lake | North Dakota.
Dacotah Bank | Aberdeen | South Dakota.
First Savings Bank | Beresford | South Dakota.
First Bank & Trust | Brookings | South Dakota.
Reliabank Dakota | Estelline | South Dakota.
Campbell County Bank, Inc. | Herreid | South Dakota.
Plains Commerce Bank | Hoven | South Dakota.
CorTrust Bank, National Association | Mitchell | South Dakota.
Farmers and Merchants State Bank | Plankinton | South Dakota.
First Western Federal Savings Bank | Rapid City | South Dakota.
First Premier Bank | Sioux Falls | South Dakota.
Commercial State Bank | Wagner | South Dakota.
Federal Home Loan Bank of Dallas—District 9
Heartland Community Bank | Bryant | Arkansas.
Community First Bank | Harrison | Arkansas.
First Arkansas Bank & Trust | Jacksonville | Arkansas.
Union Bank and Trust Company | Monticello | Arkansas.
Farmers & Merchants Bank | Stuttgart | Arkansas.
Abbeville Building & Loan, a State Chartered Savings Bank | Abbeville | Louisiana.
First National Bank USA | Boutte | Louisiana.
Community Trust Bank | Choudrant | Louisiana.
United Community Bank | Gonzales | Louisiana.
Iberia Bank | Lafayette | Louisiana.
First Federal Bank of Louisiana | Lake Charles | Louisiana.
The Union Bank | Marksville | Louisiana.
Bank of New Orleans | Metairie | Louisiana.
MBL Bank | Minden | Louisiana.
Fifth District Savings Bank | New Orleans | Louisiana.
Crescent Bank & Trust | New Orleans | Louisiana.
Citizens Bank & Trust Company | Plaquemine | Louisiana.
Anthem Bank & Trust Company | Plaquemine | Louisiana.
Plaquemine Bank & Trust Company | Plaquemine | Louisiana.
Rayne Building and Loan Association | Rayne | Louisiana.
Bank of Zachary | Zachary | Louisiana.
Magnolia State Bank | Bay Springs | Mississippi.
State Bank & Trust Company | Brookhaven | Mississippi.
Grand Bank for Savings, FSB | Hattiesburg | Mississippi.
The First, A National Banking Association | Hattiesburg | Mississippi.
OmniBank | Jackson | Mississippi.
Trustmark National Bank | Jackson | Mississippi.
Bank of Okalona | Okolona | Mississippi.
First National Bank of Pontotoc | Pontotoc | Mississippi.
Bank 34 | Alamogordo | New Mexico.
The First National Bank of New Mexico | Clayton | New Mexico.
Citizens Bank of Las Cruces | Las Cruces | New Mexico.
Southwest Capital Bank | Las Vegas | New Mexico.
Amplify Federal Credit Union | Austin | Texas.
The Brenham National Bank | Brenham | Texas.
Shelby Savings Bank, SSB | Center | Texas.
Chappell Hill Bank | Chappell Hill | Texas.
The First National Bank of Chillicothe | Chillicothe | Texas.
First Bank, National Association | Conroe | Texas.
Charter Bank | Corpus Christi | Texas.
Citizens National Bank | Crockett | Texas.
First National Bank in Dalhart | Dalhart | Texas.
Preston National Bank | Dallas | Texas.
Meridian Bank Texas | Fort Worth | Texas.
Gladewater National Bank | Gladewater | Texas.
Justin State Bank | Justin | Texas.
Falcon International Bank | Laredo | Texas.
Spring Hill State Bank | Longview | Texas.
First State Bank | Louise | Texas.
First Federal Community Bank | Paris | Texas.
Peoples Bank | Paris | Texas.
Robert Lee State Bank | Robert Lee | Texas.
Citizens State Bank | Sealy | Texas.
First State Bank | Stratford | Texas.
First State Bank Central Texas | Temple | Texas.
American National Bank of Texas | Terrell | Texas.
Citizens 1st Bank | Tyler | Texas.
Hill Bank & Trust Company | Weimar | Texas.
Federal Home Loan Bank of Topeka—District 10
San Luis Valley Federal Bank | Alamosa | Colorado.
Valley Bank & Trust Company | Brighton | Colorado.
Collegiate Peaks Bank | Buena Vista | Colorado.
Farmers State Bank of Calhan | Calhan | Colorado.
Castle Rock Bank | Castle Rock | Colorado.
First National Bank of Durango | Durango | Colorado.
High Plains Bank | Flagler | Colorado.
Rocky Mountain Bank and Trust | Florence | Colorado.
Morgan Federal Bank | Fort Morgan | Colorado.
Colorado Federal Savings Bank | Greenwood Village | Colorado.
Rio Grande Savings and Loan Association | Monte Vista | Colorado.
Century Savings & Loan Association | Trinidad | Colorado.
Park State Bank & Trust | Woodland Park | Colorado.
Peoples Exchange Bank | Belleville | Kansas.
The Elk State Bank | Clyde | Kansas.
Golden Belt Bank, FSA | Ellis | Kansas.
Girard National Bank | Girard | Kansas.
Central National Bank | Junction City | Kansas.
Argentine Federal Savings | Kansas City | Kansas.
Inter-State Federal Savings & Loan Association of Kansas City | Kansas City | Kansas.
Citizens Bank of Kansas, N.A. | Kingman | Kansas.
Kanza Bank | Kingman | Kansas.
The Citizens State Bank | Moundridge | Kansas.
Midland National Bank | Newton | Kansas.
First Federal Savings & Loan Bank | Olathe | Kansas.
Bank of Blue Valley | Overland Park | Kansas.
Peabody State Bank | Peabody | Kansas.
The Peoples Bank | Pratt | Kansas.
The Roxbury Bank | Roxbury | Kansas.
First Bank Kansas | Salina | Kansas.
Stockton National Bank | Stockton | Kansas.
Garden Plain State Bank | Wichita | Kansas.
Farmers & Merchants Bank | Ashland | Nebraska.
Pinnacle Bank | Lincoln | Nebraska.
Security Home Bank | Malmo | Nebraska.
The Nehawka Bank | Nehawka | Nebraska.
Security National Bank of Omaha | Omaha | Nebraska.
First State Bank of Porter | Porter | Nebraska.
Platte Valley Bank | Scottsbluff | Nebraska.
Platte Valley Bank | Scottsbluff | Nebraska.
Horizon Bank | Waverly | Nebraska.
First National Bank & Trust Company of Ardmore | Ardmore | Oklahoma.
Citizens Security Bank & Trust Company | Bixby | Oklahoma.
McCurtain County National Bank | Broken Bow | Oklahoma.
Oklahoma Bank & Trust Company | Clinton | Oklahoma.
First Texoma National Bank | Durant | Oklahoma.
First National Bank of Elk City | Elk City | Oklahoma.
Bank of the Panhandle | Guymon | Oklahoma.
First National Bank in Marlow | Marlow | Oklahoma.
BancFirst | Oklahoma City | Oklahoma.
First American Bank | Purcell | Oklahoma.
The Farmers State Bank | Quinton | Oklahoma.
First National Bank & Trust Company | Shawnee | Oklahoma.
Valley National Bank | Tulsa | Oklahoma.
The First National Bank of Vinita | Vinita | Oklahoma.
Federal Home Loan Bank of San Francisco—District 11
Bank 1440 | Phoenix | Arizona.
Bay Federal Credit Union | Capitola | California.
Xceed Financial Federal Credit Union | El Segundo | California.
Fremont Bank | Fremont | California.
American First Credit Union | La Habra | California.
Silvergate Bank | La Jolla | California.
Preferred Bank | Los Angeles | California.
Broadway Federal Bank, F.S.B. | Los Angeles | California.
Monterey County Bank | Monterey | California.
Oak Valley Community Bank | Oakdale | California.
Malaga Bank, F.S.B. | Palos Verdes Estates | California.
El Dorado Savings Bank, F.S.B. | Placerville | California.
Bank of Southern California, National Association | Ramona | California.
Bank of San Francisco | San Francisco | California.
CSAA Insurance Exchange | San Francisco | California.
AltaPacific Bank | Santa Rosa | California.
Bank of America California, N.A. | Walnut Creek | California.
Federal Home Loan Bank of Seattle—District 12
Mt. McKinley Bank | Fairbanks | Alaska.
BankPacific | Hagatna | Guam.
Ireland Bank | Malad | Idaho.
First Federal Savings Bank of Twin Falls | Twin Falls | Idaho.
United Bank | Absarokee | Montana.
Pioneer Federal Savings & Loan Association | Dillon | Montana.
American Federal Savings Bank | Helena | Montana.
Glacier Bank | Kalispell | Montana.
First Security Bank of Malta | Malta | Montana.
Bank of American Fork | American Fork | Utah.
TransWest Credit Union | Salt Lake City | Utah.
Bank of Fairfield | Fairfield | Washington.
Kitsap Bank | Port Orchard | Washington.
Washington Federal | Seattle | Washington.
Sterling Savings Bank | Spokane | Washington.

II. Public Comments

To encourage the submission of public comments on the community support performance of Bank members, on or before May 8, 2014, each Bank will notify its Advisory Council and nonprofit housing developers, community groups, and other interested parties in its district of the members selected for community support review in the 2014-2015 Review Cycle—2nd Round. 12 CFR 1290.2(b)(2)(ii). In reviewing a member for community support compliance, FHFA will consider any public comments it has received concerning the member. 12 CFR 1290.2(d). To ensure consideration by FHFA, comments concerning the community support performance of members selected for the 2014-2015 Review Cycle—2nd Round must be delivered to FHFA, either by hard-copy mail at the Federal Housing Finance Agency, Ninth Floor, Housing Mission and Goals (DHMG), 400 Seventh Street SW., Washington, DC 20024, or by electronic mail to hmgcommunitysupportprogram@fhfa.gov on or before the June 9, 2014 deadline for submission of Community Support Statements.

Dated: April 17, 2014.
Melvin L. Watt,
Director, Federal Housing Finance Agency.

[FR Doc. 2014-09336 Filed 4-24-14; 8:45 am]

BILLING CODE 8070-01-P